DEPARTMENT OF COMMERCE

Submission for OMB Review; Comment Request

The Department of Commerce will submit to the Office of Management and Budget (OMB) for clearance the following proposal for collection of information under the provisions of the Paperwork Reduction Act (44 U.S.C. chapter 35).

Agency: National Oceanic and Atmospheric Administration (NOAA).

Title: An Observer Program for Vessels in the Pacific Coast Groundfish Fishery.

OMB Control Number: 0648-0500.

Form Number(s): NA.

Type of Request: Regular submission (extension of a currently approved information collection).

Number of Respondents: 5.

Average Hours per Response: Projected observer assignments and observer contracts, 5 minutes each; training/briefing and debriefing registration, 7 minutes; weekly deployment reports and reports of harassment/refusal to board, safety or performance concerns, 15 minutes each; observer provider change in ownership, 20 minutes.

Burden Hours: 135.

Needs and Uses: This is a request for a renewal of a currently approved information collection.

NMFS At-Sea Hake and West Coast Groundfish Observer Programs define observer duties, train and brief/debrief observers, and manage observer data and its release. The observers, deployed aboard vessels participating in the U.S. West Coast groundfish fishery, are hired by observer providers who contract with the vessels to provide the required observer coverage (50 CFR part 660). This data collection relates to the response time for observer providers to register observers for training, briefing and debriefing and to provide projected assignments and weekly reports to NMFS, as well as copies of contracts with observers or vessels, change in ownership information, and reports of harassment of and other concerns related to vessels and observers.

Affected Public: Business or other for-profit organizations.

Frequency: Weekly and on occasion.

Respondent's Obligation: Mandatory.

OMB Desk Officer: OIRA_Submission@omb.eop.gov.

Copies of the above information collection proposal can be obtained by calling or writing Diana Hynek, Departmental Paperwork Clearance Officer, (202) 482-0266, Department of Commerce, Room 6616, 14th and Constitution Avenue, NW., Washington, DC 20230 (or via the Internet at dHynek@doc.gov).

Written comments and recommendations for the proposed information collection should be sent within 30 days of publication of this notice to OIRA_Submission@omb.eop.gov.

Dated: December 6, 2010.
Gwellnar Banks,
Management Analyst, Office of the Chief Information Officer.

[FR Doc. 2010-31069 Filed 12-9-10; 8:45 am]

BILLING CODE 3510-22-P